DEPARTMENT OF AGRICULTURE

Forest Service

Plumas National Forest, Feather River Ranger District, California, Slapjack Project

AGENCY: Forest Service, USDA.

ACTION: Notice to intent to prepare an environmental impact statement.

SUMMARY: The USDA Forest Service will prepare an environmental impact statement to disclose the environmental effects from construction of defensible fuel profile zones (DFPZs); harvest and reforestation of timber stands; watersted rehabilitation; control of noxious weeds; construction of temporary roads and reconstruction of specified roads; decommissioning of roads; road access restrictions, and underburning forest fuels and debris in the Slapjack project area.

DATES: Comments concerning the scope of the analysis must be received within 30 days of the publication of this notice in the Federal Register. The draft environmental impact statement is expected by January 2006, and the final environmental impact statement is expected by April 2006.

ADDRESSES: Send written comments concerning this notice to James M. Peña, Forest Supervisor, Plumas National Forest, P.O. Box 11500, 159 Lawrence Street, Quincy, CA 95971. Comments may be (1) mailed to the Responsible Official; (2) hand-delivered between the hours of 8 a.m.-4:30 p.m., Monday through Friday, excluding holidays; (3) faxed to (530) 283-7746; or (4) electronically mailed to: comments-pacificsouthwestplumas@fs.fed.us. Comments submitted electronically must be in Rich Text Format (.rtf).

FOR FURTHER INFORMATION CONTACT: Susan Joyce, Project Leader, Feather River Ranger District, 875 Mitchell Avenue, Oroville, CA 95965, or call (530) 534-6500.

SUPPLEMENTARY INFORMATION:

Project Location

The Slapjack project area is located approximately 19 air miles east of Oroville, California, near the communities of Challenge, Brownsville, Dobbins, Forbestown, Feather Falls, Woodleaf, Clipper Mills, and Strawberry Valley. The project area consists of approximately 27,000 acres of public and private land and is located within Butte, Yuba, and Plumas Counties, California. It is generally situated between Lake Oroville to Dobbins to the west, the North Yuba River to Wambo Bar on the East, and from Barton Hill to the town of Feather Falls to the North. The area ranges in elevation from approximately 1,300 to 3,800 feet above mean sea level.

The legal description of the project area is: Township (T) 20N, Range (R) 6E, portions of Sections 15, 23, 25, 26, and 34; T20N, R8E, portions of Section 32; T19N, R6E, portions of Sections 2-5, 9, 11 and 14; T19N, R7E, portions of Sections 1, 8, 11-13, 16-21 and 27-34; T19N, R8E, portions of Sections 4, 5, and 6; T18N, R7E, portions of Sections 2, 3, 12, 14, 22, 23, 26, and 34, Mount Diablo Base and Meridian.

Proposed Action

The Forest Service proposes to construct approximately 18 miles of DFPZs with a total treatment area of approximately 4,800 acres. A DFPZ is a strategically located strip of land approximately ¼ mile in width on which fuels, both living and dead, have been modified in order to reduce the potential for sustained crown fire and to allow fire suppression personnel a safer location from which to take action against a wildfire. Proposed DFPZs are located primarily on ridges. Due to dense brush in the area, use of herbicides is proposed to maintain the effectiveness of the DFPZs. Use of mechanical ground based equipment is proposed on 1,099 acres in DFPZs for masticating woody shrubs and trees under 10 inches in diameter at breast height. The healthiest, largest, and tallest conifers would be left at a spacing of 18 to 25 feet, depending on size of the remaining trees. Mastication would break up fuel continuity in these stands.

The Forest Service also proposes to harvest approximately 12 million board feet of timber through application of group selection and individual tree selection harvest methods. Group selection timber harvest would be conducted on approximately 240 acres within and near the DFPZ treatment units. Group selection involves harvest of trees up to 30-inches in diameter from small (½ to 2 acres) groups. The 240 acres would be harvested from a total area of about 2,291 acres. Over time, this would create an uneven-aged (all-aged) forests made up of a patchwork of small groups of same-aged trees. Individual tree selection harvest would be conducted on 148 acres to improve forest health and favor fire resilient tree species.

Use of existing and temporary roads would be needed to access timber and DFPZ treatment areas. An estimated 26 miles of existing road would be reconstructed with 2 additional miles of road resurfacing. An additional 26 miles of road, no longer in use or needed, would be decommissioned or closed by various methods, such as removal of culverts, ripping and seeding, recountouring, and installing barriers.

Use of herbicides to control the spread of noxious weeds is proposed on 10 to 15 acres. Aquatic and riparian restoration projects include removal of five fish barriers, 1,000 feet of stream bank stabilization, and 15 acres of meadow restoration.

Underburning is proposed on 841 acres. An underburn is a prescribed burn under an existing canopy of trees designed to reduce excessive live and dead vegetation. Firelines would be constructed and burning would be initiated based on prescribed burn plans and on “burn days” designated by the State Air Quality Control Board.

Purpose and Need

The purposes of the project are: (1) To reduce the wildfire threat to communities located in the wildland-urban interface by creating a strategic Defensible Fuel Profile Zone (DFPZ) that provides fire suppression personnel control points for fireline construction and access; (2) to create all-aged, multi-story, fire resilient forest stands; promote ecological health; and increase the number of seedling and sapling-sized stands to better match estimated pre-European settlement conditions for the various seral (successional) stages. Fire resilient species include ponderosa pine, Douglas-fir, black oak, and sugar pine; (3) to contribute to the economic stability of rural communities by providing an adequate timber supply; (4) to implement restoration projects to promote healthy aquatic and riparian ecosystems; and (5) To control the spread of non-native, invasive plants within forest communities in order to maintain native plant diversity, natural communities, and maintain the effectiveness of DFPZs.

Preliminary Issues

The following preliminary issues have been identified for this proposal: Use of herbicides for control of noxious weeds and DFPZ maintenance, timber harvest within watersheds approaching or over the threshold of concern, and DFPZ construction costs. Additional issues may be identified during the scoping process.

Responsible Official

James M. Peña, Forest Supervisor, P.O. Box 11500, 159Lawrence Street, Quincy, CA 95971, is the Responsible Official.

Nature of Decision To Be Made

The Responsible Official will decide whether to implement this proposal, an alternative design that moves the area towards the desired condition, or not to implement any project at this time.

Scoping Process

Public questions and comments regarding this proposal are an integral part of this environmental analysis process. Comments will be used to identify issues and develop alternatives to the proposed action. To assist the Forest Service in identifying and considering issues and concerns on the proposed action, comments should be as specific as possible.

Information about the proposed action will be mailed to adjacent landowners, as well as to those people and organizations that have indicated a specific interest in the project, to Native American entities, and federal, state and local agencies. The public will be notified of any meetings regarding this proposal by mailings and press releases sent to the local newspaper and media. There are no meetings planned at this time.

Public involvement was an integral part of the proposed action development as well. Forest Service personnel began working with local tribes, fire safe councils, Butte and Yuba County officials, State Congressional aides, South Feather Water and Power, the Quincy Library Group, and California Department of Forestry and Fire Protection in 2002-2003. The collaborators on the Slapjack Project, known collectively as the Eastern Butte/Yuba Border group (EBYB), worked to develop a series of fuel reduction treatments on National Forest System lands that extend and connect with fuel treatments on private lands, including those owned by industrial timber companies. In the years since collaboration began, Forest Service personnel have continued to meet with members of the Butte and Yuba Fire Safe Councils, local residents, and industrial timberland owners to refine the Slapjack project proposal.

Comment Requested

This notice of intent initiates the scoping process which guides the development of the environmental impact statement. The public is encouraged to take part in the process and is encouraged to visit with Forest Service officials at any time during the analysis and prior to the decision. The Forest Service will be seeking information, comments, and assistance from Federal, State, and local agencies and other individuals or organizations that may be interested in, or affected by, the proposed vegetation management activities.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the fifty-five day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 2, 2005.
Robert G. MacWhorter,
Acting Forest Supervisor.

[FR Doc. 05-17897 Filed 9-15-05; 8:45 am]

BILLING CODE 3410-11-M